GENERAL SERVICES ADMINISTRATION

41 CFR Parts 101-3 and 102-84

[FPMR Interim Rule A-1]

RIN 3090-AG55

Annual Real Property Inventories

AGENCY: Office of Governmentwide Policy, GSA.

ACTION: Interim rule.

SUMMARY: The General Services Administration (GSA) is revising the Federal Property Management Regulations (FPMR) by moving coverage on the annual real property inventories into the Federal Management Regulation (FMR). A cross-reference is added to the FPMR to direct readers to the coverage in the FMR. The FMR coverage is written in plain language to provide agencies with updated regulatory material that is easy to read and understand.

DATES: Effective Date: November 2, 2001.

Comment Date: Your comments must reach us by January 2, 2002 to be considered in the formulation of a final rule.

ADDRESSES: Send written comments to Mr. Michael E. Hopkins, Regulatory Secretariat (MVP), Acquisition Policy Division, General Services Administration, 1800 F Street, NW., Washington, DC 20405.

Send e-mail comments to RIN.3090-AG55@gsa.gov.

FOR FURTHER INFORMATION CONTACT: Stanley C. Langfeld, Director, Real Property Policy Division, (202) 501-1737.

SUPPLEMENTARY INFORMATION:

A. Background

In furtherance of its leadership role in real property asset management, the Office of Governmentwide Policy, Office of Real Property, conducted a comprehensive review of the policies contained in Federal Property Management Regulations (FPMR) Part 101-3, entitled “Annual Real Property Inventories.” This review was based on a collaborative effort with Federal real property holding agencies that utilize the Worldwide Inventory of Federal Real Property.

Representatives from the Department of the Interior, the Department of Energy, and the Army Corps of Engineers participated with GSA in conducting the initial steps of the comprehensive review of the policies in FPMR part 101-3. The review focused on improvements to make the real property inventory program more useful and to enable Federal agencies to more effectively manage their real property inventories. In addition, we have rewritten these regulations in plain language format. These regulations are being transferred from the FPMR to the FMR to enable the Government to better focus on implementing statutory requirements, Executive Orders, and governmentwide policies rather than on detailed operating procedures.

B. Executive Order 12866

GSA has determined that this interim rule is not a significant regulatory action for the purposes of Executive Order 12866 of September 30, 1993.

C. Regulatory Flexibility Act

This interim rule is not required to be published in the Federal Register for notice and comment; therefore, the Regulatory Flexibility Act does not apply.

D. Paperwork Reduction Act

The Paperwork Reduction Act does not apply because this interim rule does not impose recordkeeping or information collection requirements, or the collection of information from offerors, contractors, or members of the public that require the approval of the Office of Management and Budget (OMB) under 44 U.S.C. 3501, et seq.

E. Small Business Regulatory Enforcement Fairness Act

This interim rule is also exempt from Congressional review prescribed under 5 U.S.C. 801 since it relates solely to agency management and personnel.

F. Determination To Issue an Interim Rule

This interim rule is not required to be published for notice and comment under the Administrative Procedures Act because it relates solely to agency management and personnel; therefore, GSA could issue the rule as a final rule. However, GSA would like to receive comments about this action before publishing it as a final rule. An interim rule provides two benefits. First, it gives agencies a chance to comment on aspects of the revised coverage in the FMR. Second, agencies will be able to use the new FMR coverage to respond to the Fiscal Year 2002 data call for real property inventories.

List of Subjects in 41 CFR Parts 101-3 and 102-84

Federal buildings and facilities, Government property management.

For the reasons set forth in the preamble, 41 CFR chapters 101 and 102 are amended as follows:

CHAPTER 101—[AMENDED]

1. Part 101-3 is revised to read as follows:

PART 101-3—ANNUAL REAL PROPERTY INVENTORIES

Authority: 40 U.S.C. 486(c).

§ 101-3.000 Cross-reference to the Federal Management Regulation (FMR) (41 CFR chapter 102, parts 102-1 through 102-220).

For information on annual real property inventories previously contained in this part, see FMR part 84 (41 CFR part 102-84).

CHAPTER 102—[AMENDED]

2. Part 102-84 is added to Subchapter C to read as follows:

PART 102-84—ANNUAL REAL PROPERTY INVENTORIES

Sec.
102-84.5 What is the scope of this part?
102-84.10 What is the purpose of the Annual Real Property Inventory Program?
102-84.15 Why must I provide information for the Annual Real Property Inventory?
102-84.20 Where should I obtain information to be reported for the Annual Real Property Inventory?
102-84.25 Is it necessary for my agency to designate an official to serve as the point of contact for the real property inventories?
102-84.30 Is it necessary for my agency to certify the accuracy of its real property inventory submission?
102-84.35 Which agencies must submit a report for inclusion in the Annual Real Property Inventory?
102-84.40 What types of real property must I report for the Annual Real Property Inventory?
102-84.45 What types of real property must not be reported for the Annual Real Property Inventory?
102-84.50 Can the GSA Form 1166 be used to report information?
102-84.55 When are the Annual Real Property Inventory reports due?

Authority: 40 U.S.C. 486(c).

§ 102-84.5 What is the scope of this part?

GSA's policies contained in this part apply to all Federal agencies. This part prescribes guidance that you must follow in preparing and submitting annual real property inventory information for real property owned by and leased to the United States. The detailed guidance implementing these policies is contained in separate customer guides issued by the GSA Office of Governmentwide Policy.

§ 102-84.10 What is the purpose of the Annual Real Property Inventory Program?

The purpose of the Annual Real Property Inventory program is to:

(a) Maintain a centralized source of information on Federal real property holdings;

(b) Track space utilization of reporting agencies;

(c) Provide support for consolidated Federal financial statements on real property assets; and

(d) Establish a reference for answering inquiries from the Congress, the press, trade associations, educational institutions, Federal, State and local government agencies, and the general public.

§ 102-84.15 Why must I provide information for the Annual Real Property Inventory?

You must provide information for the Annual Real Property Inventory because:

(a) The Senate Committee on Appropriations requests that the Government maintain an Annual Real Property Inventory.

(b) Executive Order 12411, Government Work Space Management Reforms, dated March 29, 1983 (3 CFR, 1983 Comp., p. 155), requires that Executive agencies:

(1) Produce and maintain a total inventory of work space and related furnishings and declare excess to the Administrator of General Services all such holdings that are not necessary to satisfy existing or known and verified planned programs; and

(2) Establish information systems, implement inventory controls and conduct surveys, in accordance with procedures established by the Administrator of General Services, so that a governmentwide reporting system may be developed.

§ 102-84.20 Where should I obtain information to be reported for the Annual Real Property Inventory?

You should obtain data reported for the Annual Real Property Inventory from the most accurate real property and accounting records maintained by your agency, preferably the same accounting records used to support your agency's financial statements.

§ 102-84.25 Is it necessary for my agency to designate an official to serve as the point of contact for the real property inventories?

Yes, you must designate an official to serve as your agency's point of contact for the Annual Real Property Inventories. We recommend that you designate the same point of contact for the Federally-owned and leased real property inventory, although separate points of contact are permitted. You must advise the General Services Administration, Office of Governmentwide Policy, Office of Real Property (MP), 1800 F Street, NW., Washington, DC 20405, in writing, of the name(s) of these representative(s) and any subsequent changes. Each agency's point of contact for the real property inventories can be found at http://worldwide.gsa.gov.

§ 102-84.30 Is it necessary for my agency to certify the accuracy of its real property inventory submission?

Yes, your agency's highest ranking real property official must certify the accuracy of the real property information submitted to GSA.

§ 102-84.35 Which agencies must submit a report for inclusion in the Annual Real Property Inventory?

Each agency that carries real property on its financial statement as of September 30 each year has the responsibility for submitting the real property inventory information. Information provided in these reports related to asset values must be consistent with agency records used for financial reporting in accordance with standards issued by the Federal Accounting Standards Advisory Board (FASAB). For purposes of this part, this requirement shall apply regardless of the method used to acquire the property or which agency is currently using or occupying the property.

§ 102-84.40 What types of real property must I report for the Annual Real Property Inventory?

You must report for the Annual Real Property Inventory all land, buildings, and other structures and facilities owned by the United States (including wholly-owned Federal Government corporations) throughout the world and all real property leased by the United States from private individuals, organizations, and municipal, county, State, and foreign governments. These reports must include all real property that a Federal agency carries on its financial statement and/or in documentation accompanying the financial statement, such as:

(a) Unreserved public domain lands;

(b) Public domain lands reserved for national forests, national parks, military installations, or other purposes;

(c) Real property acquired by purchase, construction, donation, eminent domain proceedings, or any other method;

(d) Real property in which the Government has a long-term interest considered by the reporting agency as being equivalent to ownership. This would include land acquired by treaty or long-term lease (e.g., 99-year lease), and that your agency considers equivalent to Federally-owned land;

(e) Buildings or other structures and facilities owned by or leased to the Government whether or not located on Government-owned land;

(f) Excess and surplus real property;

(g) Real property held in trust by the Federal Government;

(h) Leased real property (including leased land, leased buildings, leased other structures and facilities, or combination thereof); and

(i) Real property leased rent free or for a nominal rental rate if the real property is considered significant by the reporting agency.

§ 102-84.45 What types of real property must not be reported for the Annual Real Property Inventory?

You must not report real property that is not carried on your agency's financial statements, such as:

(a) Properties acquired through foreclosure, confiscation, or seizure to be liquidated in settlement of a claim or debt to the Federal Government;

(b) Rights-of-way or easements granted to the Federal Government; and

(c) Lands administered by the United States under trusteeship by authority of the United Nations.

§ 102-84.50 Can the GSA Form 1166 be used to report information?

No, GSA Form 1166 may not be used to report information. Agencies must submit information in an electronic format. For more information on format requirements, contact GSA's Office of Governmentwide Policy, Office of Real Property (MP), 1800 F Street NW., Washington, DC 20405, by telephone at (202) 501-0856, or e-mail at assetmanagement@gsa.gov.

§ 102-84.55 When are the Annual Real Property Inventory reports due?

You must prepare the Annual Real Property Inventory information prescribed in § 102-84.50 as of the last day of each fiscal year. This information is due to the General Services Administration, Office of Governmentwide Policy, Office of Real Property (MP), 1800 F Street, NW., Washington, DC 20405, no later than November 15 of each year.

Dated: October 25, 2001.
Stephen A. Perry,
Administrator of General Services.

[FR Doc. 01-27609 Filed 11-1-01; 8:45 am]

BILLING CODE 6820-23-P